DEPARTMENT OF COMMERCE

National Oceanic and Atmospheric Administration

RIN 0648-XD03

Notice of Availability of the Record of Decision for the Final Environmental Impact Statement for Amendments to the Atlantic Large Whale Take Reduction Plan

AGENCY: National Marine Fisheries Service (NMFS), National Oceanic and Atmospheric Administration (NOAA), Commerce.

ACTION: Notice of Availability of Record of Decision.

SUMMARY: In accordance with the National Environmental Policy Act of 1969, NMFS announces availability of the Record of Decision (ROD) for amending the Atlantic Large Whale Take Reduction Plan (ALWTRP). NMFS approves Alternative 6 Final Preferred, which includes broad-based, coast-wide gear modifications and seasonal restrictions.

ADDRESSES: Copies of the ROD and Final Environmental Impact Statement (FEIS)/Regulatory Impact Review for amending the ALWTRP can be obtained from the ALWTRP website listed under the Electronic Access portion of this document or by contacting staff listed under the FOR FURTHER INFORMATION CONTACT section of this document. For additional ADDRESSES and Web sites for document availability see SUPPLEMENTARY INFORMATION section.

FOR FURTHER INFORMATION CONTACT: Diane Borggaard, NMFS, Northeast Region, 978-281-9300 Ext. 6503, diane.borggaard@noaa.gov; Kristy Long, NMFS, Office of Protected Resources, 301-713-2322, kristy.long@noaa.gov; or Barb Zoodsma, NMFS, Southeast Region, 904-321-2806, barb.zoodsma@noaa.gov.

SUPPLEMENTARY INFORMATION:

Electronic Access

The ROD and the FEIS are available electronically from the following Web site: http://www.nero.noaa.gov/whaletrp/.

Dated: September 27, 2007.
Samuel D. Rauch III,
Deputy Assistant Administrator for Regulatory Programs, National Marine Fisheries Service.

[FR Doc. 07-4913 Filed 10-1-07; 11:33 am]

BILLING CODE 3510-22-S